DEPARTMENT OF HEALTH AND HUMAN SERVICES

Food and Drug Administration

[Docket No. 01D-0583]

Food Security Guidance; Availability; Correction

AGENCY: Food and Drug Administration, HHS.

ACTION: Notice; correction.

SUMMARY: The Food and Drug Administration (FDA) is correcting a notice that appeared in the Federal Register of January 9, 2002 (67 FR 1224). The notice announced the availability of two guidance documents related to food security entitled “Food, Producers, Processors, Transporters, and Retailers: Food Security Preventive Measures Guidance” and “Importers and Filers: Food Security Preventive Measures Guidance.” The notice published with inadvertent errors. This document corrects those errors.

FOR FURTHER INFORMATION CONTACT: John Kvenberg, Office of Field Programs (HFS-600), Center for Food Safety and Applied Nutrition, Food and Drug Administration, 5100 Paint Branch Pkwy., College Park, MD 20740, 202-205-4187, e-mail: jkvenberg@cfsan.fda.gov or Donald W. Kraemer, Office of Seafood (HFS-400), Center for Food Safety and Applied Nutrition, Food and Drug Administration, 5100 Paint Branch Pkwy., College Park, MD 20740, 301-436-2300, e-mail: dwkraemer@cfsan.fda.gov.

SUPPLEMENTARY INFORMATION: In FR Doc 02-542, appearing on page 1224 in the Federal Register of Wednesday, January 9, 2002, the following corrections are made:

1. On page 1224, in the second column, under the FOR FURTHER INFORMATION CONTACT section, after the last sentence, add a second contact person to read: “Donald W. Kraemer, Office of Seafood (HFS-400), Center for Food Safety and Applied Nutrition, Food and Drug Administration, 5100 Paint Branch Pkwy., College Park, MD 20740, 301-436-2300, e-mail: dkraemer@cfsan.fda.gov.”

2. On page 1225, in the first column, under the heading “III. Electronic Access,” starting in the third line the Internet address is corrected to read: “ http://www.cfsan.fda.gov/~dms/guidance.html.”

Dated: February 7, 2002.
Margaret M. Dotzel,
Associate Commissioner for Policy.

[FR Doc. 02-3615 Filed 2-13-02; 8:45 am]

BILLING CODE 4160-01-S